DEPARTMENT OF HEALTH AND HUMAN SERVICES

Health Resources and Services Administration

Advisory Council; Notice of Meeting

In accordance with section 10(a)(2) of the Federal Advisory Committee Act (Public Law 92-463), announcement is made of the following National Advisory body scheduled to meet during the month of September 2001:

Name: Council on Graduate Medical Education (COGME).

Date and Time: September 6, 2001, 8:30 a.m.-4:30 p.m. September 7, 2001, 8:30 a.m.-12 p.m.

Place: Holiday Inn,Versailles I Meeting Room,8120 Wisconsin Avenue,Bethesda, MD 20814.

The meeting is open to the public.

Agenda: The agenda for the first day, September 6, will include: Welcome and opening comments from the Acting Administrator, Health Resources and Services Administration; the Associate Administrator for Health Professions; and the Acting Executive Secretary of COGME. The Council will discuss the preparation and development of the COGME Final Report.

The agenda for the second day, September 7, will include a presentation given by the Center for California Health Workforce Studies, University of California, San Francisco, CA, on its report, “Strategies for Improving the Racial and Ethnic Diversity of the Health Professions: Findings and Recommendations.” There will be a discussion of future projects and the structure of the COGME work groups.

Anyone requiring information regarding the meeting should contact Crystal L. Clark, M.D., M.P.H., Acting Executive Secretary, Council on Graduate Medical Education, Division of Medicine and Dentistry, Bureau of Health Professions, Room 9A-27, Parklawn Building, 5600 Fishers Lane, Rockville, Maryland 20857, Telephone (301) 443-6326.

Agenda items are subject to change as priorities dictate.

Dated: July 25, 2001.
Jane M. Harrison,
Director, Division of Policy Review and Coordination.

[FR Doc. 01-19149 Filed 7-31-01; 8:45 am]

BILLING CODE 4165-15-P